DEPARTMENT OF THE INTERIOR

Bureau of Land Management

[Docket No. WO-310-1310-PB-24 1A]

Extension of Approved Information Collection, OMB Control Number 1004-0196

AGENCY: Bureau of Land Management, Interior.

ACTION: Notice and request for comments.

SUMMARY: In accordance with the Paperwork Reduction Act of 1995, the Bureau of Land Management (BLM) plans to request the Office of Management and Budget (OMB) to extend an existing approval to collect information from operators and operating rights owners who apply for designation of National Petroleum Reserve-Alaska (NPRA) unit agreements. We collect nonform information to determine whether to grant approval to operate under a unit plan for NPRA Federal lands. We require operators to retain and provide information to determine whether proposed unit agreements meet the requirements for unitized exploration and development of oil and gas resources of the NPRA.

DATES: You must submit your comments to BLM at the address below on or before November 19, 2007. BLM will not necessarily consider any comments received after the above date.

ADDRESSES: You may send comments to the OMB, Interior Department Desk Officer (1004-0196), at OMB-OIRA via e-mail OIRA_DOCKET@omb.eop.gov or via facsimile at (202) 395-6566. Also please send a copy of your comments to BLM via Internet and include your name, address, and ATTN: 1004-0196 in your Internet message to comments_washington@blm.gov or via mail to: U.S. Department of the Interior, Bureau of Land Management, Mail Stop 401LS, 1849 C Street, NW., ATTN: Bureau Information Collection Clearance Officer (WO-630), Washington, DC 20240.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Barbara Gamble, Division of Fluid Minerals, on (202) 452-0338 (Commercial or FTS). Persons who use a telecommunication device for the deaf (TDD) may call the Federal Information Relay Service (FIRS) on 1-800-877-8339, 24 hours a day, seven days a week, to leave a message or question with the above individual. You will receive a reply during normal business hours.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The Naval Petroleum Reserves Production Act of 1976, as amended (42 U.S.C. 6501 et seq.), the Federal Land Policy and Management Act of 1976 (43 U.S.C. 1701 et seq.), and the National Environmental Policy Act of 1969 (NEPA), as amended (42 U.S.C. 4321 et seq.), and 43 CFR subparts, 3133, 3135, 3137, and 3138 require affected oil and gas operators and operating rights owners to maintain records and provide information to apply for suspensions of royalty; apply for suspensions of operations, form and maintain until agreements; and to enter into subsurface storage agreements, respectively. All recordkeeping burdens hours are associated with the nonform information requested.

The reporting burden of each provision for the information collection, including recordkeeping, depends on which information is required. The respondents are oil and gas operators and operating rights owners. The frequency of response varies from one-time only to occasional to routine, depending on activities conducted. We estimated 35 responses per year and 492 total annual burden hours. We base this estimate on our experience managing the program. The table below summarizes our estimates.

Information collection (43 CFR) | Requirement | Hours per response | Number of respondents | Total burden hours
3133.4 | Royalty reduction | 16 | 1 | 16
3135.3 | Suspension of operations | 8 | 1 | 8
3135.6 | Notification of operations | 4 | 1 | 4
3137.23 | Unit designation | 80 | 3 | 240
3137.25 | Notification of unit approval | 4 | 3 | 12
3137.52 | Certification for modification | 4 | 1 | 4
3137.60 | Acceptable Bonding | 8 | 3 | 24
3137.61 | Change of unit operator | 4 | 2 | 8
3137.70 | Certification of unit obligation | 4 | 3 | 12
3137.71 | Certification of continuing development | 4 | 3 | 12
3137.84 | Productivity for a PA | 12 | 2 | 24
3137.87 | Unleased tracts | 6 | 1 | 6
3137.88 | Notification of productivity | 4 | 1 | 4
3137.91 | Notification of productivity for non-unit well | 4 | 1 | 4
3137.92 | Production information | 4 | 1 | 4
3137.112 | Lease extension | 6 | 1 | 6
3137.113 | Inability to conduct operations activities | 4 | 2 | 8
3137.130 | Unit termination | 4 | 2 | 8
3137.135 | Impact mitigation | 4 | 3 | 12
3138.11 | Storage agreement | 80 | 1 | 80
Totals |  | 184 | 35 | 492

The BLM will summarize all responses to this notice and include them in the request for OMB approval. All comments will become a matter of public record.

Dated: September 13, 2007.
Shirlean Beshir,
Bureau of Land Management, Information Collection Clearance Officer.

[FR Doc. 07-4613 Filed 9-17-07; 8:45 am]

BILLING CODE 431